DEPARTMENT OF STATE

[Public Notice: 12609]

Private Sector Participation in Domestic and International Events on Spaceflight Safety, Sustainability, and Emerging Markets in Outer Space

ACTION: Notice.

SUMMARY: The U.S. Department of State seeks private sector participation in a series of domestic and international events promoting the safe and responsible exploration and use of outer space.

DATES: Participants will provide their perspectives on Department equities and/or serve as private sector advisors to U.S. delegations to one or more workshops, meetings, symposia, and other international events related to safety, sustainability, responsible behavior, and emerging markets in outer space until December 31, 2025.

ADDRESSES: Solicitations for private sector participation in specific events, including event dates and locations, will be posted at least 30 days prior to the event on https://www.state.gov/remarks-and-releases-bureau-of-oceans-and-international-environmental-and-scientific-affairs/.

FOR FURTHER INFORMATION CONTACT: Ryan Guglietta, Lead Foreign Affairs Officer, Office of Space Affairs, Bureau of Oceans and International Environmental and Scientific Affairs, Department of State, Washington, DC 20522, email: gugliettart@state.gov, telephone: 1-202-485-6952.

SUPPLEMENTARY INFORMATION: Participation of the commercial space sector, academia and other non-governmental organizations in these events will assist the Department of State in fulfilling its responsibilities pursuant to the 2020 National Space Policy and the 2021 United States Space Priorities Framework. Participation from the U.S. private sector will also help inform the United States' international engagements and provide an opportunity for participants to better understand international perspectives on pressing outer space issues.

Events will vary in location and format, to include fully online, hybrid, and in-person activities. Short notice modification of plans may be required in response to unpredictable factors. Meetings may be stand alone or on the margins of related events, which may include, but are not limited to, the United Nations Committee on the Peaceful Uses of Outer Space (UNCOPUOS) Scientific and Technical Subcommittee (STSC), the UNCOPUOS Legal Subcommittee (LSC), the UNCOPUOS plenary, events organized by the UN Office for Outer Space Affairs, and other engagements. There may also be additional opportunities to provide expert views related to domestic policies and U.S. positions in other international diplomatic fora. Please note the limited number of slots for non-USG participation in many events.

Participants should focus on the following:

Safety: Identify key safety issues for crewed and/or uncrewed outer space operations. Discuss current attempts to address these issues and suggest new challenges that may develop as private sector space activities advance and evolve.

Sustainability: Explore efforts to promote sustainable and responsible behavior in space. Examine best practices and guidelines aimed at safeguarding the outer space environment for future exploration and use. In particular, implementation of the 2019 UNCOPUOS Long-Term Sustainability (LTS) guidelines and the multi-nation Artemis Accords should be considered.

Emerging Markets: Discuss the challenges to an economically viable space industry and how these challenges relate to the domestic regulatory and international governance frameworks. Share recent advances within the commercial space sector and how they may develop in the future. Evaluate how an expanding commercial sector may affect equities like terrestrial based astronomy, planetary protection, orbital debris mitigation, space resource utilization, and other aspects of safe and sustainable operations in outer space.

Facilitating Private Sector Input: Suggest ways to enhance collaboration between the U.S. Government, foreign countries, and commercial space industry in the development of international best practices and related mechanisms, including at the United Nations level. Provide advice on methods of improving information sharing and collaboration between industry stakeholders and the Department of State to improve bilateral, regional, and multilateral diplomacy related to commercial space. Share perspectives on the role of U.S. and foreign commercial actors in providing greater access to space for emerging spacefaring nations and enhancing economic prosperity.

Valda M. Vikmanis-Keller,
Director, Office of Space Affairs, Department of State.

[FR Doc. 2024-30503 Filed 12-20-24; 8:45 am]

BILLING CODE 4710-09-P